DEPARTMENT OF HOMELAND SECURITY

Federal Emergency Management Agency

44 CFR Part 67

[Docket ID FEMA-2010-0003]

Final Flood Elevation Determinations

AGENCY: Federal Emergency Management Agency, DHS.

ACTION: Final rule.

SUMMARY: Base (1% annual-chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated in the table below.

ADDRESSES: The final BFEs for each community are available for inspection at the office of the Chief Executive Officer of each community. The respective addresses are listed in the table below.

FOR FURTHER INFORMATION CONTACT: Luis Rodriguez, Chief, Engineering Management Branch, Federal Insurance and Mitigation Administration, Federal Emergency Management Agency, 500 C Street, SW., Washington, DC 20472, (202) 646-4064, or (e-mail) luis.rodriguez1@dhs.gov.

SUPPLEMENTARY INFORMATION: The Federal Emergency Management Agency (FEMA) makes the final determinations listed below for the modified BFEs for each community listed. These modified elevations have been published in newspapers of local circulation and ninety (90) days have elapsed since that publication. The Deputy Federal Insurance and Mitigation Administrator has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community. The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

State | City/town/county | Source of flooding | Location | * Elevation in feet (NGVD) + Elevation in feet (NAVD) # Depth in feet above ground ‸ Elevation in meters (MSL) Modified
Unincorporated Areas of Poinsett County, Arkansas
Docket No.: FEMA-B-1083
Arkansas | Unincorporated Areas of Poinsett County | Left Hand Chute of Little River | At the confluence with the St. Francis River | +212
|  |  | Approximately 0.45 mile downstream of Leatherwood Lane | +216
|  |  | Approximately 1.02 miles downstream of State Highway 140 | +220
|  |  | Approximately 1,400 feet downstream of State Highway 140 | +223
| Unincorporated Areas of Poinsett County | St. Francis River | Approximately 0.73 mile downstream of U.S. Route 63 | +211
|  |  | At the confluence with Left Hand Chute of Little River | +212
* National Geodetic Vertical Datum.
+ North American Vertical Datum.
# Depth in feet above ground.
‸ Mean Sea Level, rounded to the nearest 0.1 meter.
ADDRESSES
Unincorporated Areas of Poinsett County
Maps are available for inspection at the Poinsett County Hall, Harrisburg, AR 72432.
Village of Jewett, Illinois
Docket No.: FEMA-B-1085
Illinois | Village of Jewett | Embarras River | Approximately 600 feet downstream of River Road extended | +517
|  |  | Approximately 1,150 feet upstream of River Road extended | +518
* National Geodetic Vertical Datum.
+ North American Vertical Datum.
# Depth in feet above ground.
‸ Mean Sea Level, rounded to the nearest 0.1 meter.
ADDRESSES
Village of Jewett
Maps are available for inspection at the Village Hall, 2 North 12th Avenue, Jewett, IL 62436.
Unincorporated Areas of Muskogee County, Oklahoma
Docket No.: FEMA-B-1021
Oklahoma | Unincorporated Areas of Muskogee County | Arkansas River | Approximately 1,371 feet downstream of State Highway 104 | +553
|  |  | Approximately 1,625 feet upstream of State Highway 104 | +554
* National Geodetic Vertical Datum.
+ North American Vertical Datum.
# Depth in feet above ground.
‸ Mean Sea Level, rounded to the nearest 0.1 meter.
ADDRESSES
Unincorporated Areas of Muskogee County
Maps are available for inspection at the Muskogee County Courthouse, 4517 Dennison Street, Muskogee, OK 74402.
Unincorporated Areas of Bandera County, Texas
Docket No.: FEMA-B-1066
Texas | Unincorporated Areas of Bandera County | Medina River (flooding effects from Bandera River) | Just downstream of State Highway 16 | +215
|  |  | Just upstream of Harvey Ray Drive | +1,213
* National Geodetic Vertical Datum.
+ North American Vertical Datum.
# Depth in feet above ground.
‸ Mean Sea Level, rounded to the nearest 0.1 meter.
ADDRESSES
Unincorporated Areas of Bandera County
Maps are available for inspection at 502 11th Street, Bandera, TX 78003.
Unincorporated Areas of Dawson County, Texas
Docket No.: FEMA-B-1083
Texas | Unincorporated Areas of Dawson County | Sulphur Springs Draw | Just upstream of County Road L | +2,924
|  |  | Just downstream of U.S. Route 180 | +2,950
* National Geodetic Vertical Datum.
+ North American Vertical Datum.
# Depth in feet above ground.
‸ Mean Sea Level, rounded to the nearest 0.1 meter.
ADDRESSES
Unincorporated Areas of Dawson County
Maps are available for inspection at 400 South 1st Street, Lamesa, TX 79331.

Flooding source(s) | Location of referenced elevation | * Elevation in feet (NGVD) + Elevation in feet (NAVD) # Depth in feet above ground ‸ Elevation in meters (MSL) Modified | Communities affected
Fulton County, Illinois, and Incorporated Areas
Docket No.: FEMA-B-1085
Copperas Creek | Approximately 0.52 mile downstream of U.S. Route 24 | +454 | Unincorporated Areas of Fulton County, Village of Banner.
| Approximately 0.51 mile upstream of U.S. Route 24 | +454
Illinois River | Approximately 0.88 mile downstream of County Highway 9 extended | +453 | Unincorporated Areas of Fulton County, Village of Banner, Village of Liverpool.
| Approximately 1.09 miles upstream of Marsh Road extended | +454
* National Geodetic Vertical Datum.
+ North American Vertical Datum.
# Depth in feet above ground.
‸ Mean Sea Level, rounded to the nearest 0.1 meter.
ADDRESSES
Village of Banner
Maps are available for inspection at the Village Hall, 396 South Fulton Street, Banner, IL 61520.
Village of Liverpool
Maps are available for inspection at the Village Hall, 116 South State Street, Liverpool, IL 61543.
Unincorporated Areas of Fulton County
Maps are available for inspection at the Fulton County Supervisor's Office, 100 North Main Street, Lewiston, IL 61542.
Putnam County, Illinois, and Incorporated Areas
Docket No.: FEMA-B-1085
Illinois River | Approximately 0.83 mile downstream of the I-180 bridge | +462 | Unincorporated Areas of Putnam County, Village of Hennepin.
| Approximately 1.93 miles upstream of the IL-89 bridge | +463
* National Geodetic Vertical Datum.
+ North American Vertical Datum.
# Depth in feet above ground.
‸ Mean Sea Level, rounded to the nearest 0.1 meter.
ADDRESSES
Village of Hennepin
Maps are available for inspection at the Village Hall, 627 East High Street, Hennepin, IL 61327.
Unincorporated Areas of Putnam County
Maps are available for inspection at the Putnam County Courthouse, 120 North 4th Street, Hennepin, IL 61327.
Todd County, Minnesota, and Incorporated Areas
Docket No.: FEMA-B-1064
Long Prairie River | Approximately 15,140 feet downstream of U.S. Route 71 | +1,284 | City of Long Prairie, Unincorporated Areas of Todd County.
| Approximately 3,950 feet upstream of Riverside Drive (County Highway 56) | +1,293
* National Geodetic Vertical Datum.
+ North American Vertical Datum.
# Depth in feet above ground.
‸ Mean Sea Level, rounded to the nearest 0.1 meter.
ADDRESSES
City of Long Prairie
Maps are available for inspection at 615 Lake Street South, Long Prairie, MN 56347.
Unincorporated Areas of Todd County
Maps are available for inspection at 215 1st Avenue South, Suite 201, Long Prairie, MN 56347.
Colorado County, Texas, and Incorporated Areas
Docket No.: FEMA-B-1083
Colorado River | Approximately 0.6 mile downstream of County Road 122 | +139 | City of Columbus, City of Eagle Lake, Colorado County Water Control Improvement District No. 2, Unincorporated Areas of Colorado County.
| Just downstream of Burnham's Ferry Crossing | +223
* National Geodetic Vertical Datum.
+ North American Vertical Datum.
# Depth in feet above ground.
‸ Mean Sea Level, rounded to the nearest 0.1 meter.
ADDRESSES
City of Columbus
Maps are available for inspection at 605 Spring Street, Columbus, TX 78934.
City of Eagle Lake
Maps are available for inspection at 400 Spring Street, Columbus, TX 78934.
Colorado County Water Control Improvement District No. 2
Maps are available for inspection at 400 Spring Street, Columbus, TX 78934.
Unincorporated Areas of Colorado County
Maps are available for inspection at 400 Spring Street, Columbus, TX 78934.
Duval County, Texas, and Incorporated Areas
Docket No.: FEMA-B-1083
San Diego Creek | Just upstream of Ventura Street | +296 | City of San Diego, Unincorporated Areas of Duval County.
| Just upstream of Julian Street | +304
* National Geodetic Vertical Datum.
+ North American Vertical Datum.
# Depth in feet above ground.
‸ Mean Sea Level, rounded to the nearest 0.1 meter.
ADDRESSES
City of San Diego
Maps are available for inspection at 404 South Meir Street, San Diego, TX 78384.
Unincorporated Areas of Duval County
Maps are available for inspection at 400 East Gravis Avenue, San Diego, TX 78384.

(Catalog of Federal Domestic Assistance No. 97.022, “Flood Insurance.”)

Dated: December 30, 2010.
Sandra K. Knight,
Deputy Federal Insurance and Mitigation Administrator, Mitigation, Department of Homeland Security, Federal Emergency Management Agency.

[FR Doc. 2011-293 Filed 1-10-11; 8:45 am]

BILLING CODE 9110-12-P